CONSUMER PRODUCT SAFETY COMMISSION

Sunshine Act Meeting Notice

TIME AND DATE: Wednesday, May 25, 2022, 10-11 a.m.

PLACE: This meeting will be held remotely.

STATUS: Commission Meeting—Open to the Public.

MATTERS TO BE CONSIDERED: Briefing Matter:

Notice of Proposed Rulemaking: Safety Standard for Recreational Off-Highway Vehicle and Utility Task/Terrain Vehicle Debris Penetration Hazards.

All attendees should pre-register for the Commission meeting using the following link: https://cpsc.webex.com/cpsc/onstage/g.php?MTID=e7b57b48965ca252d4a0572526961419a.

After registering you will receive a confirmation email containing information about joining the meeting.

CONTACT PERSON FOR MORE INFORMATION: Alberta E. Mills, Office of the Secretary, U.S. Consumer Product Safety Commission, 4330 East-West Highway, Bethesda, MD 20814, 301-504-7479 (Office) or 240-863-8938 (Cell).

Dated: May 18, 2022.
Alberta E. Mills,
Commission Secretary.

[FR Doc. 2022-11098 Filed 5-19-22; 11:15 am]

BILLING CODE 6355-01-P